OFFICE OF THE UNITED STATES TRADE REPRESENTATIVE

[Docket Number USTR-2017-0014]

Generalized System of Preferences: Import Statistics Relating to Competitive Need Limitations and Deadline for Filing Petitions

AGENCY: Office of the United States Trade Representative.

ACTION: Notice of statistics availability and deadline for submission of petitions.

SUMMARY: Import statistics for the first nine months of 2017 relating to competitive need limitations (CNLs) under the Generalized System of Preferences (GSP) program are available on the Office of the United States Trade Representative (USTR). These import statistics identify some articles for which the 2017 trade levels may exceed statutory CNLs.

In a Federal Register notice dated August 11, 2017, USTR said it would announce the procedures to receive petitions requesting waivers of CNLs. This notice provides those procedures. Interested parties may find the import statistics useful in deciding whether to submit a petition to waive the CNLs for individual beneficiary developing countries (BDCs) with respect to specific GSP-eligible articles. USTR will announce decisions on the petitions accepted for review, a schedule for any related public hearings, and the opportunity to provide comments, in the Federal Register at a later date.

DATES: The GSP Subcommittee of the Trade Policy Staff Committee (TPSC) must receive your CNL waiver petition by midnight, December 5, 2017.

ADDRESSES: USTR strongly prefers electronic submissions made through the Federal eRulemaking Portal: https://www.regulations.gov. The docket number is USTR-2017-0014. Follow the instructions for submitting comments in section D below. For alternatives to on-line submissions, please contact Naomi Freeman at (202) 395-2974.

FOR FURTHER INFORMATION CONTACT: Naomi Freeman at (202) 395-2974 or GSP@ustr.eop.gov.

SUPPLEMENTAL INFORMATION:

A. Background

The GSP program provides for the duty-free treatment of designated articles when imported from designated BDCs. The GSP program is authorized by Title V of the Trade Act of 1974 (19 U.S.C. 2461 et seq.), as amended, and is implemented in accordance with Executive Order 11888 of November 24, 1975, as modified by subsequent Executive Orders and Presidential Proclamations.

B. Competitive Need Limitations

Section 503(c)(2)(A) of the Trade Act (19 U.S.C. 2463(c)(2)(A)) sets out the two different measures for CNLs. When the President determines that a BDC has exported to the United States during a calendar year either (1) a quantity of a GSP-eligible article having a value in excess of the applicable amount for that year ($180 million for 2017), or (2) a quantity of a GSP-eligible article having a value equal to or greater than 50 percent of the value of total U.S. imports of the article from all countries (50 percent CNL), the President must terminate GSP duty-free treatment for that article from that BDC no later than July 1st of the next calendar year, unless the President grants a waiver before the exclusion goes into effect. Interested parties should submit CNL waiver petitions based on 2017 annual review procedures in the event that the Congress extends the GSP program beyond its current December 31, 2017 expiration date. CNLs do not apply to least-developed countries or beneficiaries of the African Growth and Opportunity Act.

Any interested party may submit a petition seeking a waiver of the 2017 CNL for individual BDCs with respect to specific GSP-eligible articles. In addition, under section 503(c)(2)(F) of the Trade Act (19 U.S.C. 2463(c)(2)(F)), the President may waive the 50 percent CNL with respect to an eligible article imported from a BDC, if the value of total imports of that article from all countries during the calendar year did not exceed the applicable de minimis amount for that year ($23.5 million for 2017).

C. Interim 2017 Import Statistics

USTR has compiled interim import statistics for the first nine months of 2017 to provide advance notice of articles that may exceed the CNLs shown below for 2017. You also can find this information on the USTR Web site at https://ustr.gov/issue-areas/preference-programs/generalized-system-preferences-gsp/current-reviews/gsp-2017-annual. Full calendar year 2017 data for individual tariff subheadings will be available in February 2018 on the Web site of the U.S. International Trade Commission at http://dataweb.usitc.gov/.

USTR has organized the interim 2017 import statistics to show, for each article, the Harmonized Tariff Schedule of the United States (HTSUS) subheading and BDC of origin, the value of imports of the article from the specified country for the first nine months of 2017, and the corresponding share of total imports of that article from all countries. The list includes the GSP-eligible articles from BDCs which, based on interim nine-month 2017 data, exceed $120 million, or an amount greater than 42 percent of the total value of U.S. imports of that product.

A. 0410.00.00: Edible products of animal origin, nesi (Indonesia)

B. 0714.40.10: Fresh or chilled taro (Colocasia spp.), whether or not sliced or in the form of pellets (Ecuador)

C. 2106.90.98: Other food preps nesoi, incl preps for the manufacture of beverages, non-dairy coffee whiteners, herbal teas and flavored honey (Thailand)

D. 2909.19.18: Ethers of acyclic monohydric alcohols & deriv, nesoi (Brazil)

E. 3808.91.30: Insecticides, nesoi, containing an inorganic substance, put up for retail sale (India)

F. 3823.11.00: Stearic acid (Indonesia)

G. 4011.20.10: New pneumatic radial tires, of rubber, of a kind used on buses or trucks (Indonesia)

H. 6802.99.00: Monumental or building stone & arts. thereof, nesoi, further worked than simply cut/sawn, nesoi Brazil)

I. 7403.19.00: Refined copper, unwrought articles nesoi (Brazil)

J. 8450.20.00: Household- or laundry-type washing machines, each of a dry linen capacity exceeding 10 kg (Thailand)

K. 9001.50.00: Spectacle lenses of materials other than glass, unmounted (Thailand)

USTR is providing the list on its Web site, which includes the relevant nine-month trade statistics for each of these products, as a courtesy for informational purposes only. The list is based on interim 2017 trade data, and may not include all articles that may be affected by the GSP CNLs. Regardless of whether or not an article is included on the list referenced in this notice, all determinations and decisions regarding application of the CNLs of the GSP program will be based on full calendar-year 2017 import data for each GSP-eligible article. USTR advises interested parties to conduct their own review of anticipated full calendar-year 2017 import data with regard to the possible application of GSP CNLs.

D. Requirements for Submissions

In order to be assured of consideration, you must submit your petition by the midnight, December 5, 2017, deadline to docket number USTR-2017-0014 via www.regulations.gov. All submissions in response to this notice must conform to the GSP regulations set forth at 15 CFR part 2007— https://www.ecfr.gov/cgi-bin/text-idx?SID=271bd12a5ef9cae0c4c178d1131ac292&mc=true&node=pt15.3.2007&rgn=div5—except as modified below.

The GSP Subcommittee strongly encourages on-line submissions, using the https://www.regulations.gov Web site. All submissions must be in English and must be transmitted electronically via www.regulations.gov using docket number USTR-2017-0014. To make a submission via www.regulations.gov, enter the appropriate docket number on the home page and click “search.” The site will provide a search-results page listing all documents associated with this docket. Find a reference to this notice and click on the link entitled “Comment Now!” For further information on using the www.regulations.gov Web site, please consult the resources provided on the Web site by clicking on “How to Use Regulations.gov” on the bottom of the home page.

USTR will not accept hand-delivered submissions. USTR will not accept submissions for review that do not provide the information required by sections 2007.0 and 2007.1 of the GSP regulations, except upon a detailed showing in the submission that the petitioner made a good faith effort to obtain the information required.

The https://www.regulations.gov Web site allows users to provide comments by filling in a “Type Comment” field, or by attaching a document using an “Upload File” field. The GSP Subcommittee prefers that you provide submissions as an attached document. If you attach a document, it is sufficient to type “See attached” in the “Type Comment” field. USTR prefers submissions in Microsoft Word (.doc) or Adobe Acrobat (.pdf) format. If the submission is in another file format, please indicate the name of the software application in the “Type Comment” field. At the beginning of the submission or on the first page (if an attachment), include the following text (in bold and underlined): (1) “2017 CNL Petition” and (2) the eight-digit HTSUS subheading number in which the product is classified. Interested parties submitting petitions that request action with respect to specific products also should list at the beginning of the submission, or on the first page (if an attachment) the following information: (1) The requested action; and (2) if applicable, the beneficiary developing country. Submissions should not exceed 30 single-spaced, standard letter-size pages in 12-point type, including attachments.

Please do not attach separate cover letters or data attachments to electronic submissions; rather, include any such information in the comments themselves. Similarly, to the extent possible, please include any exhibits, annexes, or other attachments in the same file as the comment itself, rather than submitting them as separate files.

For any electronic submissions that contain business confidential information, the file name of the business confidential version should begin with the characters “BC”. Any page containing business confidential information must be clearly marked “BUSINESS CONFIDENTIAL” on the top of that page and the submission should clearly indicate, via brackets, highlighting, or other means, the specific information that is business confidential. A filer requesting business confidential treatment must certify that the information is business confidential and would not customarily be released to the public by the submitter. Filers of submissions containing business confidential information also must submit a public version of their comments that we will place in the docket for public inspection. The file name of the public version should begin with the character “P”. The “BC” and “P” should be followed by the name of the person or entity submitting the comments. Filers submitting comments containing no business confidential information should name their file using the name of the person or entity submitting the comments.

You will receive a submission tracking number upon completion of the submissions procedure at https://www.regulations.gov. The tracking number is your confirmation that the submission was received into https://www.regulations.gov. The GSP Subcommittee is not able to provide technical assistance for the Web site. The GSP Subcommittee may not consider documents that are not submitted in accordance with these instructions.

As noted, the GSP Subcommittee strongly urges submitters to file comments through www.regulations.gov. You must make any alternative arrangements with Naomi Freeman in advance of transmitting a comment. You can contact Ms. Freeman at (202) 395-2974.

We will post comments in the docket for public inspection, except business confidential information. You can view comments on the https://www.regulations.gov Web site by entering the relevant docket number in the search field on the home page.

Erland Herfindahl,
Deputy Assistant U.S. Trade Representative for the Generalized System of Preferences and Chair of the GSP Subcommittee of the Trade Policy Staff Committee, Office of the U.S. Trade Representative.

[FR Doc. 2017-24579 Filed 11-13-17; 8:45 am]

BILLING CODE 3290-F8-P